DEPARTMENT OF EDUCATION

[Docket No.: ED-2021-SCC-0162]

Agency Information Collection Activities; Comment Request; Native Hawaiian Education and Alaska Native Education Annual Performance Report

AGENCY: Office of Elementary and Secondary Education (OESE), Department of Education (ED).

ACTION: Notice.

SUMMARY: In accordance with the Paperwork Reduction Act of 1995, ED is proposing a new collection.

DATES: Interested persons are invited to submit comments on or before January 18, 2022.

ADDRESSES: To access and review all the documents related to the information collection listed in this notice, please use http://www.regulations.gov by searching the Docket ID number ED-2021-SCC-0162. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208D, Washington, DC 20202-8240.

FOR FURTHER INFORMATION CONTACT: For specific questions related to collection activities, please contact Joanne Osborne, (202) 401-1265.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Native Hawaiian Education and Alaska Native Education Annual Performance Report.

OMB Control Number: 1810-NEW.

Type of Review: New collection.

Respondents/Affected Public: State, Local, and Tribal Governments.

Total Estimated Number of Annual Responses: 102.

Total Estimated Number of Annual Burden Hours: 510.

Abstract: This is a request for a new Annual Performance Report (APR) information collection for the Title VI, Part B of the ESEA (Native Hawaiian Education), Title VI, Part C of the ESEA (Alaska Native Education), and Title XI, Section 11006 of the American Rescue Plan Act of 2021. The information shared with the Rural, Insular, and Native Achievement Program (RINAP) division will help ensure Native Hawaiian and Alaska Native Education program grantees make progress toward meeting program goals and objectives. Information collected will also inform the selection and delivery of technical assistance to grantees, allowing RINAP to better monitor the connection between grant administration and intended outcomes. Collection of APR information will also allow RINAP to proactively engage with grantees to identify potential compliance issues ahead of more comprehensive monitoring, decreasing the need for enforcement action and minimizing burden for grantees.

Dated: November 12, 2021.
Kate Mullan,
PRA Coordinator, Strategic Collections and Clearance Governance and Strategy Division, Office of Chief Data Officer, Office of Planning, Evaluation and Policy Development.

[FR Doc. 2021-25047 Filed 11-16-21; 8:45 am]

BILLING CODE 4000-01-P